DEPARTMENT OF ENERGY

Federal Energy Regulatory Commission

[Docket No. RP06-216-002]

Iroquois Gas Transmission System, L.P.; Notice of Compliance Filing

May 26, 2006.

Take notice that on April 26, 2006, Iroquois Gas Transmission System, L.P., (Iroquois) tendered for filing as part of its FERC Gas Tariff, First Revised Volume No. 1, Sixth Revised Sheet No. 50B, with an effective date of March 9, 2006.

Iroquois states that the filing is being made in response to the Commission's March 9, 2006 order accepting and suspending subject to conditions, earlier tariff sheets filed by Iroquois on February 7, 2006. Iroquois states that the above referenced tariff sheet replaces Fifth Revised Sheet No. 50B that was erroneously filed with Iroquois' April 10, 2006 compliance filing.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-8604 Filed 6-1-06; 8:45 am]

BILLING CODE 6717-01-P